DEPARTMENT OF HEALTH AND HUMAN SERVICES

Centers for Disease Control and Prevention

Agency for Toxic Substance and Disease Registry

American Indian/Alaska Native Governments and Organizations Budget Planning and Priorities Meeting

The Office of the Director of the Centers for Disease Control and Prevention (CDC) and Agency for Toxic Substance and Disease Registry (ATSDR) announces the following meeting:

Name: Centers for Disease Control and Prevention (CDC) and Agency for Toxic Substances and Disease Registry (ATSDR) American Indian/Alaska Native (AI/AN) Governments and Organizations Budget Planning and Priorities Meeting.

Time and Date: 9 a.m.-5 p.m., March 17, 2000.

Place: Roybal Campus, Building 2, Auditorium A, 1600 Clifton Road, Atlanta Georgia 30333.

Status: The meeting is open to the public and is limited only by the space available. The meeting room accommodates approximately 150 people. For those unable to attend the meeting, a toll-free audio bridge has been arranged from 9:00 am to 5:00 pm. The public comment period is scheduled from 1:30 p.m.-3:00 p.m. Comments and recommendations may be received via audio conference and fax.

Purpose: In accordance with Departmental policy on consultation with (AI/AN) Governments and Organizations, CDC/ATSDR will host this meeting to give AI/AN people an opportunity to present their public health program needs and priorities. The timing of this meeting will allow CDC and ATSDR to consider these needs and priorities in developing the FY 2002 budget request.

Matters to be Discussed: The agenda will include opening remarks/introductions, testimony of AI/AN leaders, public comments period, break-out sessions and general discussion.

Audio Bridge and Fax Information: All times scheduled are Eastern time. Your Conference Name: CDC and ATSDR American Indian and Alaska Native Governments and Organizations Budget Planning and Priorities Meeting. Audio bridge conference telephone number for non-federal participants: 800-311-3437. Audio bridge conference telephone number for Atlanta Area participants: 404-639-3277 Fax telephone number for comments and recommendations: 800-553-6323.

Conference Code: 222222.

Date: March 17, 2000.

Audio bridge Conference Time: 8:45 a.m.-5:00 p.m. Public Comment Period (Audio and Fax): 1:30 p.m.-3:00 p.m. If you have a problem during your audio conference, please call; Non-Federal Participants: 800-793-8598 and Atlanta Area Participants: 404-639-7550.

Contact Person for More Information: Mr. Dean Seneca, Office of the Associate Director for Minority Health, CDC, 1600 Clifton Road, M/S D39, Atlanta, Georgia 30333, telephone 404/639-7220, e-mail zkg8@CDC.gov.

The Director, Management Analysis and Services office has been delegated the authority to sign Federal Register notices pertaining to announcements of meetings and other committee management activities, for both the Centers for Disease Control and Prevention and the Agency for Toxic Substances and Disease Registry.

Dated: March 7, 2000.
Burma Burch,
Acting Director, Management Analysis and Services Office, Centers for Disease Control and Prevention.

[FR Doc. 00-6029 Filed 3-10-00; 8:45 am]

BILLING CODE 4160-19-P